DEPARTMENT OF COMMERCE

Foreign-Trade Zones Board

[Order No. 1961]

Reorganization of Foreign-Trade Zone 238 Under Alternative Site Framework, Dublin, Virginia

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the New River Valley Economic Development Alliance, Inc., grantee of Foreign-Trade Zone 238, submitted an application to the Board (FTZ Docket B-19-2014, docketed 02-26-2014) for authority to reorganize under the ASF with a service area including the Counties of Alleghany, Amherst, Bedford, Bland, Botetourt, Campbell, Carroll, Craig, Floyd, Franklin, Giles, Grayson, Henry, Montgomery, Patrick, Pittsylvania, Pulaski, Roanoke, Rockbridge, Smyth, Tazewell and Wythe, and the Cities of Bedford, Buena Vista, Covington, Danville, Galax, Lynchburg, Martinsville, Radford, Roanoke and Salem, Virginia, within and adjacent to the New River Valley Airport Customs and Border Protection port of entry, and FTZ 238's existing Sites 1 and 2 would be categorized as magnet sites;

Whereas, notice inviting public comment was given in the Federal Register (79 FR 12149-12150, 03-04-2014) and the application has been processed pursuant to the FTZ Act and the Board's regulations; and,

Whereas, the Board adopts the findings and recommendation of the examiner's report, and finds that the requirements of the FTZ Act and the Board's regulations are satisfied;

Now, therefore, the Board hereby orders:

The application to reorganize FTZ 238 under the ASF is approved, subject to the FTZ Act and the Board's regulations, including Section 400.13, to the Board's standard 2,000-acre activation limit for the zone, and to an ASF sunset provision for magnet sites that would terminate authority for Site 2 if not activated within five years from the month of approval.

Signed at Washington, DC, this 9th day of January 2015.
Paul Piquado,
Assistant Secretary of Commerce for Enforcement and Compliance, Alternate Chairman, Foreign-Trade Zones Board.
ATTEST:
Andrew McGilvray,
Executive Secretary.

[FR Doc. 2015-01231 Filed 1-22-15; 8:45 am]

BILLING CODE 3510-DS-P